DEPARTMENT OF DEFENSE

Office of the Secretary

Meeting of the Secretary of Defense's Defense Advisory Board for Employer Support of the Guard and Reserve (DAB-ESGR)

AGENCY: Department of Defense.

ACTION: Notice of open meeting.

SUMMARY: This notice announces a meeting of the DAB-ESGR. This meeting will focus on the status of DoD actions and recommendations from previous DAB meetings, relevant discussion on U.S. Government inter-agency Transition Assistance study and successful employer support programs in four States. This meeting is open to the public.

DATES: 0830-1230 hrs, 12 September 2007.

Location: Federal Room, Hotel Washington, 15th and Pennsylvania Ave., NW., Washington, DC.

FOR FURTHER INFORMATION CONTACT: Interested attendees may contact MAJ Elaine M. Gullotta at 703-696-1385 ext. 540, or e-mail at elaine.gullotta@osd.mil.

Agenda

0830 Convene (Mr. Chris P.A. Komisarjevsky, Acting Chairman).

0835 Oath of Office (Mr. Frank Wilson, FACA CMO).

0840 Review of Last Meeting Minutes/New Charter.

0850 Honorable Thomas F. Hall, Assistant Secretary of Defense Reserve Affairs.

0900 Mr. James G. Rebholz, National Chairman, ESGR.

Dr. L. Gordon Sumner, Jr., Ph.D., Executive Director, ESGR.

0930 Commission on the National Guard and Reserve Discussion, Thomas Eldridge, WSO-CNGR.

1030 State Perspectives: Joseph Thomas, Tennessee, State Chairman, ESGR; Barry Spear, Iowa, State Chairman, ESGR; Dennis Shulstad, Minnesota, State Chairman, ESGR; Ernest Loomis, New Hampshire, State Chairman, ESGR.

1130 Transition Assistance Update, James L. Scott II, Director, Individual and Family Policy OASD/RA (M&P).

1200 Board Discussion.

1230 Adjourn.

FOR FURTHER INFORMATION CONTACT: Major E. Gullotta, 703-696-1386 ext. 540.

Dated: August 24, 2007.
L.M. Bynum,
Alternate OSD Federal Register Liaison Officer, DoD.

[FR Doc. 07-4257 Filed 8-29-07; 8:45 am]

BILLING CODE 5001-06-M